NATIONAL FOUNDATION ON THE ARTS AND THE HUMANITIES

Meetings of Humanities Panel

AGENCY: National Endowment for the Humanities.

ACTION: Notice of Meetings.

SUMMARY: Pursuant to section 10(a)(2) of the Federal Advisory Committee Act (5 U.S.C. App.), notice is hereby given that 18 meetings of the Humanities Panel will be held during August 2013 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See SUPPLEMENTARY INFORMATION section for meeting room numbers.

FOR FURTHER INFORMATION CONTACT: Lisette Voyatzis, Committee Management Officer, 1100 Pennsylvania Ave. NW., Room, 529, Washington, DC 20506, or call (202) 606-8322. Hearing-impaired individuals are advised that information on this matter may be obtained by contacting the National Endowment for the Humanities' TDD terminal at (202) 606-8282.

SUPPLEMENTARY INFORMATION:

Meetings

1. Date: August 01, 2013

Time: 8:30 a.m. to 5:00 p.m.

Room: 315

This meeting will discuss applications for the Fellowships for University Teachers grant program on the subject of Religious Studies, submitted to the Division of Research Programs.

2. Date: August 02, 2013

Time: 8:30 a.m. to 5:00 p.m.

Room: 315

This meeting will discuss applications for the Fellowships for University Teachers grant program on the subjects of European Literature and Studies, submitted to the Division of Research Programs.

3. Date: August 05, 2013

Time: 8:30 a.m. to 5:00 p.m.

Room: 315

This meeting will discuss applications for the Fellowships for University Teachers grant program on the subjects of American Literature and Studies, submitted to the Division of Research Programs.

4. Date: August 05, 2013

Time: 8:30 a.m. to 5:00 p.m.

Room: 415

This meeting will discuss applications for the Fellowships for University Teachers grant program on the subject of East Asian Studies, submitted to the Division of Research Programs.

5. Date: August 06, 2013

Time: 8:30 a.m. to 5:00 p.m.

Room: 415

This meeting will discuss applications for the Fellowships for University Teachers grant program on the subject of Art History, submitted to the Division of Research Programs.

6. Date: August 06, 2013

Time: 8:30 a.m. to 5:00 p.m.

Room: 315

This meeting will discuss applications for the Fellowships for University Teachers grant program on the subjects of Political Science, Urban Studies, and Jurisprudence, submitted to the Division of Research Programs.

7. Date: August 07, 2013

Time: 8:30 a.m. to 5:00 p.m.

Room: 315

This meeting will discuss applications for the Fellowships for University Teachers grant program on the subject of American History, submitted to the Division of Research Programs.

8. Date: August 08, 2013

Time: 8:30 a.m. to 5:00 p.m.

Room: 315

This meeting will discuss applications for the Fellowships for University Teachers grant program on the subject of American Studies, submitted to the Division of Research Programs.

9. Date: August 08, 2013

Time: 8:30 a.m. to 5:00 p.m.

Room: 415

This meeting will discuss applications for the Fellowships for University Teachers grant program on the subjects of American History and Studies, submitted to the Division of Research Programs.

10. Date: August 08, 2013

Time: 8:30 a.m. to 5:00 p.m.

Room: 421

This meeting will discuss applications for the Preservation and Access Research and Development grant program, submitted to the Division of Preservation and Access.

11. Date: August 12, 2013

Time: 8:30 a.m. to 5:00 p.m.

Room: 315

This meeting will discuss applications for the Fellowships for University Teachers grant program on the subjects of Ancient and Classical Studies, submitted to the Division of Research Programs.

12. Date: August 13, 2013

Time: 8:30 a.m. to 5:00 p.m.

Room: 415

This meeting will discuss applications for the Fellowships for University Teachers grant program on the subjects of African and Middle Eastern Studies, submitted to the Division of Research Programs.

13. Date: August 13, 2013

Time: 8:30 a.m. to 5:00 p.m.

Room: 315

This meeting will discuss applications for the Fellowships for University Teachers grant program on the subjects of Medieval and Renaissance Studies, submitted to the Division of Research Programs.

14. Date: August 14, 2013

Time: 8:30 a.m. to 5:00 p.m.

Room: 315

This meeting will discuss applications for the Fellowships for University Teachers grant program on the subjects of Music and Dance, submitted to the Division of Research Programs.

15. Date: August 14, 2013

Time: 8:30 a.m. to 5:00 p.m.

Room: 415

This meeting will discuss applications for the Fellowships for University Teachers grant program on the subjects of Communications, Media, Rhetoric, and Linguistics, submitted to the Division of Research Programs.

16. Date: August 15, 2013

Time: 8:30 a.m. to 5:00 p.m.

Room: 315

This meeting will discuss applications for the Fellowships for University Teachers grant program on the subject of Latin American Studies, submitted to the Division of Research Programs.

17. Date: August 15, 2013

Time: 8:30 a.m. to 5:00 p.m.

Room: 415

This meeting will discuss applications for the Fellowships for University Teachers grant program on the subject of Latin American Studies, submitted to the Division of Research Programs.

18. Date: August 22, 2013

Time: 8:30 a.m. to 5:00 p.m.

Room: 527

This meeting will discuss applications for the Preservation Education and Training grant program, submitted to the Division of Preservation and Access.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: July 9, 2013.
Lisette Voyatzis,
Committee Management Officer.

[FR Doc. 2013-16902 Filed 7-15-13; 8:45 am]

BILLING CODE 7536-01-P